NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 75 FR 8818. NSF is forwarding the proposed renewal submission to the Office of Management and Budget (OMB) for clearance simultaneously with the publication of this second notice. The full submission may be found at: http://www.reginfo.gov/public/do/PRAMain.

Comments: Comments regarding (a) Whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

FOR FURTHER INFORMATION CONTACT: Suzanne H. Plimpton at 703-292-7556 or send e-mail to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: Title of Collection: Grantee Reporting Requirements for the Industry University Cooperative Research Centers Program (I/UCRC).

OMB Number: 3145-0088.

Type of Request: Intent to seek approval to reinstate an information collection.

Abstract

Proposed Project

The Industry/University Cooperative Research Centers (I/UCRC) Program was initiated in 1973 to develop long-term partnerships among industry, academe and government. The National Science Foundation invests in these partnerships to promote research programs of mutual interest, contribute to the Nation's research infrastructure base and enhance the intellectual capacity of the engineering or science workforce through the integration of research and education. As appropriate, NSF encourages international collaborations that advance these goals within the global context.

The I/UCRC program seeks to achieve this by:

1. Contributing to the nation's research enterprise by developing long-term partnerships among industry, academe, and government;

2. Leveraging NSF funds with industry to support graduate students performing industrially relevant research; and

3. Expanding the innovation capacity of our nation's competitive workforce through partnerships between industries and universities.

4. Encouraging the nation's research enterprise to remain competitive through active engagement with academic and industrial leaders throughout the world.

The centers are catalyzed by a small investment from NSF and they are primarily supported by other private and public sector center members, with NSF taking a supporting role in the development and evolution of the I/UCRC. The I/UCRC program initially offers five-year (Phase I) continuing awards. This five-year period of support allows for the development of a strong partnership between the academic researchers and their industrial and government members. After five years, centers that continue to meet the I/UCRC program requirements may request support for a second five-year (Phase II) period. These awards allow centers to continue to grow and diversify their non-NSF memberships during their Phase II period. After ten years, a Phase III award provides a third five-year award for centers that demonstrate their viability, sustainability, and which have had a significant impact on industry research as measured through annual reports, site visits, and adherence to I/UCRC requirements. Centers are expected to be fully supported by industry, other Federal agencies, and State and local government partners after fifteen years as an I/UCRC.

Centers will be required to provide data to NSF and its authorized representatives (contractors or grantees). These data will be used for NSF internal reports, historical data, assessing program impact and recommending changes to strengthen the program, as well as for strengthening the program and to ensure the program remains responsive to a changing environment in order to secure future funding for continued I/UCRC program maintenance and growth. Updates to the I/UCRC database of performance indicators will be required annually. Centers will be responsible for submitting the following information after the award expires for their fiscal year of activity. The indicators are both quantitative and descriptive.

• Quantitative information from the most recently completed fiscal year such as:

○ Number and diversity of students, faculty, and industrial numbers involved in the center

○ Degrees granted to students involved in center activities

○ Amounts and sources of income to the center, and

○ Lists of patents, licenses, and publications created

• Operating budget and total funding:

○ Total funding

○ NSF I/UCRC funding received

○ Other NSF funding received

○ Additional support broken down by Industry, State, University, Other Federal, Non-Federal and other support

• Capital and in-kind support:

○ Equipment

○ Facilities

○ Personnel

○ Software

○ Other support

• Human resources:

○ Researchers (number of faculty scientists and engineers, number of non-faculty scientists and engineers)

○ Students (number of graduates, number of undergraduates)

○ Administration, number of full and part time professional and clerical staff

○ Information about broadening participation on the above with plans to increase broadening participation, if necessary

• Center director descriptors:

○ Position and rank of director

○ Status of tenure

○ Name and position of the person to whom the center director reports

○ Estimate of the percent of time the director devotes to center administration, other administration, research, teaching, other

• Center outcomes:

○ Students receiving degrees and type degree earned

○ Students hired by industry by type of degree

○ Publications

• Number with center research

• Number with Industrial Advisory

Board Members

• Number of presentations

• Intellectual property events:

○ Invention disclosures

○ Patent applications

○ Software copyrights

○ Patents granted and derived or both

○ Licensing agreements

○ Royalties realized

I/UCRCs will also include evaluation conducted by independent evaluators who cannot be from the department(s) with the institution(s) receiving funding for the I/UCRC award. The center evaluator will be responsible for:

○ Preparing an annual report of center activities with respect to industrial collaboration

○ Conducting a survey of all center participants to probe the participant satisfaction with center activities

○ Compiling a set of quantitative indicators determined by NSF to analyze the management and operation of the center

○ Participating in I/UCRC center and informational meetings

○ Reporting to NSF on the center's status using a checklist provided by NSF to help determine if the center is adhering to the IUCRC policy and guidelines

○ Bi-annual reporting to NSF

○ Reporting to NSF within a month of each Industrial Advisory Board meeting on the top research highlights, technology transfer, patents, and major discoveries that demonstrate successful investments

○ Performing exit interviews to determine why members chose to withdraw from the center

○ Participating in continuous quality process improvement by providing information to the NSF I/UCRC program

Use of the Information: The data collected will be used for NSF internal reports, historical data, and for securing future funding for continued I/UCRC program maintenance and growth.

Estimate of Burden: 150 hours per center (160 sites) for fifty-six centers for a total of 8400 hours.

Respondents: Industry, academic institutions; non-profit institutions; government.

Estimated Number of Responses per Report: One from each of the 160 sites.

Dated: March 3, 2011.
Suzanne H. Plimpton,
Reports Clearance Officer, National Science Foundation.

[FR Doc. 2011-5801 Filed 3-11-11; 8:45 am]

BILLING CODE 7555-01-P